DEPARTMENT OF HOMELAND SECURITY

Federal Emergency Management Agency

[Docket ID: FEMA-2018-0003; OMB No. 1660-0138]

Agency Information Collection Activities: Proposed Collection; Comment Request; Direct Housing Program Forms

AGENCY: Federal Emergency Management Agency, DHS.

ACTION: Notice and request for comments.

SUMMARY: The Federal Emergency Management Agency, as part of its continuing effort to reduce paperwork and respondent burden, invites the general public to take this opportunity to comment on a revision of a currently approved information collection. In accordance with the Paperwork Reduction Act of 1995, this notice seeks comments concerning the collection of information related to FEMA's temporary housing assistance, which provides temporary housing to eligible survivors of federally declared disasters.

DATES: Comments must be submitted on or before May 29, 2018.

ADDRESSES: To avoid duplicate submissions to the docket, please use only one of the following means to submit comments:

(1) Online. Submit comments at www.regulations.gov under Docket ID FEMA-2018-0003. Follow the instructions for submitting comments.

(2) Mail. Submit written comments to Docket Manager, Office of Chief Counsel, DHS/FEMA, 500 C Street SW, 8NE, Washington, DC 20472-3100.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of www.regulations.gov.

FOR FURTHER INFORMATION CONTACT: Elizabeth McDowell, Supervisory Program Specialist, FEMA, Recovery Directorate, at (540) 686-3630. You may contact the Information Management Division for copies of the proposed collection of information at email address: FEMA-Information-Collections-Management@fema.dhs.gov.

SUPPLEMENTARY INFORMATION: The Robert T. Stafford Disaster Relief and Emergency Assistance Act (42 U.S.C. 5174) authorizes the President to provide temporary housing units to include manufactured housing units, recreational vehicles and other readily fabricated dwellings to eligible applicants who require temporary housing as a result of a major disaster. 44 CFR part 206 provides the requirements for disaster-related housing needs of individuals and households who are eligible for temporary housing assistance. The information collected is necessary to determine the feasibility of a potential site for placement of a Transportable Temporary Housing Unit (TTHU), to ensure the TTHU is ready for applicant occupancy, and to confirm applicant understanding of the requirements of occupancy of the TTHUs.

Collection of Information

Title: Direct Housing Program Forms.

Type of Information Collection: Revision of a currently approved information collection.

OMB Number: 1660-0138.

FEMA Forms: FEMA Form 009-0-129, Ready for Occupancy Status; FEMA Form 009-0-131, Sales Calculation Worksheet; FEMA Form 009-0-134, Disaster Assistance Recertification Worksheet; FEMA Form 009-0-135, Temporary Housing Agreement; FEMA Form 009-0-137, Unit Pad Requirements—Information Checklist.

Abstract: The Robert T. Stafford Disaster Relief and Emergency Assistance Act (42 U.S.C. 5174) authorizes the President to provide temporary housing units to include manufactured housing units, recreational vehicles and other readily fabricated dwellings to eligible applicants who require temporary housing as a result of a major disaster. The information collected is necessary to determine the feasibility of a potential site for placement of a TTHU, to ensure the TTHU is ready for applicant occupancy, and to confirm applicant understanding of the requirements of occupancy of the THUs.

Affected Public: Individuals or households, Business or other for-profits.

Estimated Number of Respondents: 25,000.

Estimated Number of Responses: 25,000.

Estimated Total Annual Burden Hours: 7,917.

Estimated Total Annual Respondent Cost: $320,453.28.

Estimated Respondents' Operation and Maintenance Costs: $0.

Estimated Respondents' Capital and Start-Up Costs: $0.

Estimated Total Annual Cost to the Federal Government: $ 2,997,510.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: March 16, 2018.
William H. Holzerland,
Senior Director for Information Management, Office of the Chief Administrative Officer, Mission Support, Federal Emergency Management Agency, Department of Homeland Security.

[FR Doc. 2018-06071 Filed 3-26-18; 8:45 am]

BILLING CODE 9111-23-P